DEPARTMENT OF TRANSPORTATION

Federal Aviation Administration

14 CFR Part 145

[Docket No. FAA-1999-5836]

RIN 2120-AI60

Repair Stations

AGENCY: Federal Aviation Administration (FAA), DOT.

ACTION: Final rule; delay of effective date.

SUMMARY: The FAA is delaying the effective date of the final rule requiring each repair station to have an approved training program. This action is necessary because applicable guidance material is not yet available to assist repair stations in developing their programs. The delayed date will give repair stations sufficient time to develop their programs and will give the FAA time to evaluate and approve them.

DATES: The effective date of § 145.163 published at 66 FR 41117 (August 6, 2001) is delayed until April 6, 2006. The amendments in this final rule become effective April 6, 2006.

FOR FURTHER INFORMATION CONTACT: Mr. Herbert E. Daniel, Aircraft Maintenance Division, General Aviation and Repair Station Branch (AFS-340), Federal Aviation Administration, 800 Independence Ave., SW., Washington, DC 20591; facsimile (202) 267-5115; e-mail Herbert.E.Daniel@faa.gov or by telephone at (202) 267-3109; or Mr. Dan Bachelder, AFS-340, at the address or facsimile listed above or e-mail Dan.Bachelder@faa.gov or by telephone at (202) 267-7027.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority.

This rulemaking is promulgated under the authority described in title 49, subtitle VII, part A, subpart III, section 44701, General requirements, and section 44707, Examining and rating air agencies. Under section 44701, the FAA may prescribe regulations and standards in the interest of safety for inspecting, servicing, and overhauling aircraft, aircraft engines, propellers, and appliances. It may also prescribe equipment and facilities for, and the timing and manner of, inspecting, servicing, and overhauling. Under section 44707, the FAA may examine and rate repair stations.

This regulation is within the scope of section 44701 since it pertains to the new requirement for repair stations to have FAA-approved training programs in the interest of enhancing safety. The regulation is within the scope of section 47707 since it will assist repair stations in developing better training programs by allowing them to develop those programs based on FAA-issued guidance materials.

The Final Rule

On July 30, 2001, the FAA issued a final rule to update and revise repair station regulations (66 FR 41088, August 6, 2001). In that rulemaking action, the FAA established a new requirement that each repair station have an employee training program approved by the FAA that consists of initial and recurrent training. In the preamble to the final rule, the FAA stated, “Before the effective date of the final rule, the FAA will issue advisory material regarding the required training program.” The effective date for the new training requirements was set two years after the effective date of the revised rule for repair stations to provide repair stations time to develop their programs. The new training requirements are scheduled to become effective on April 6, 2005.

On December 22, 2004, the FAA published a Notice of Availability of draft Advisory Circular AC 145-RSTP. This document would provide guidance to repair stations for their training programs. In response to multiple comments from industry associations, the FAA has extended the comment period to March 22, 2005 (70 FR 3243; January 21, 2005). The extended comment period will enable repair station operators to submit meaningful comments on whether the guidance material is useful in developing training programs that comply with § 145.163.

When the comment period closes, the FAA will review the comments. We expect commenters will have meaningful suggestions for improving the guidance. We also expect that some commenters will call attention to new training technologies that would benefit a training program. The FAA will need time to consider the comments and to incorporate meaningful changes into AC 145-RSTP that will benefit these smaller entities in the development of their training programs.

Further, due to recent events in the European Union, the European Commission (EC) has passed and implemented commission regulation 2042/2003. This regulation also impacts the domestic United States by requiring all European-registered aircraft to be maintained in accordance with annex 2, part 145. The FAA recognizes that 1,275 US-based 14 CFR part 145 repair stations are also approved under EC regulation 2042 and are now required to meet the repair station manual supplement requirements of EC 2042, hereinafter referred to as European Aviation Safety Agency (EASA) part 145. This new requirement to transition from the former Joint Aviation Authority (JAA) to EASA part 145 will require many US-based repair stations to revise their current JAA supplements to the EASA part 145 supplement requirements. Concurrently with its review and evaluation of the U.S.-certificated repair stations' training programs, the FAA also must allot resources to review and accept these EASA part 145 manual supplement revisions. In light of these developments and the United States' international agreements, as well as FAA international obligations, the FAA finds that implementing the § 145.163 training program and EASA supplement to repair station manuals by April 6, 2005 would impose a significant burden on the repair station industry as well as the FAA.

Delaying the effective date of 14 CFR 145.163 for 12 months will have the ancillary benefit of reducing the burden on the 1,275 U.S.-based repair stations that must meet the EASA part 145 manual supplement requirements. They will have additional time in which to develop both those revisions and the training programs required by § 145.163. Similarly, the extension will provide additional time for the FAA to review them.

In summary, the FAA is delaying the effective date of 14 CFR 145.163 for 12 months because:

1. We have extended the comment period on the proposed guidance material and, therefore, have not yet issued the final guidance, and

2. We want to adhere as closely as possible to a transition period between the time the guidance is issued and the effective date of the rule. The additional time will enable repair stations to use that guidance material when it becomes available in developing their programs.

Paperwork Reduction Act

There are no new requirements for information collection associated with this amendment.

International Compatibility

In keeping with U.S. obligations under the Convention on International Civil Aviation, it is FAA policy to comply with International Civil Aviation Organization (ICAO) Standards and Recommended Practices to the maximum extent practicable. The FAA has reviewed the corresponding ICAO Standards and Recommended Practices and has identified no differences with these regulations.

Good Cause for “No Notice”

Sections 553(b)(3)(B) and 553(d)(3) of the Administrative Procedures Act (APA) (5 U.S.C. 553(b)(3)(B) and 553(d)(3)) authorize agencies to dispense with certain notice procedures for rules when they find “good cause” to do so. Under section 553(b)(3)(B), the requirements of notice and opportunity for comment do not apply when the agency for good cause finds that those procedures are “impracticable, unnecessary, or contrary to the public interest.” The FAA finds that notice and public comment on this final rule are impracticable. For the APA, “impracticable” means that, if notice and comment procedures were followed, they would defeat the purpose of the rule. As explained previously, the purpose of this final rule is to extend the effective date for the repair station training requirements from April 6, 2005, to April 6, 2006. Coordinating and issuing rulemaking documents will take time under current procedures. We cannot issue a notice, receive comments, and issue a final rule before the current effective date. Repair stations will also need adequate time before the effective date to develop their training programs following guidance to be provided by the FAA. Therefore, any delay in issuing this final rule would subject repair stations to confusion and the expense of trying to establish training programs hurriedly without final guidance from the FAA. Therefore, it is “impracticable” to provide notice and opportunity to comment.

Good Cause for Immediate Adoption

In accordance with 5 U.S.C. 553(b)(3)(B), FAA finds good cause for issuing this rule without prior notice and comment. Seeking public comment is impracticable, unnecessary, and contrary to the public interest. This delay of effective date will give repair stations sufficient time to use FAA guidance material in preparing to operate under the amended regulations for repair stations. Given the imminence of the effective date, seeking prior public comments on this temporary delay would have been impracticable, as well as contrary to the public interest in the orderly promulgation and implementation of this rule.

Economic Evaluation, Regulatory Flexibility Determination, Trade Impact Assessment, and Unfunded Mandates Assessment

Changes to Federal regulations must undergo several economic analyses. First, Executive Order 12866 directs each Federal agency to propose or adopt a regulation only if the agency makes a reasoned determination that the benefits of the intended regulation justify its costs. Second, the Regulatory Flexibility Act of 1980 requires agencies to analyze the economic impact of regulatory changes on small entities. Third, the Trade Agreements Act (19 U.S.C. 2531-2533) bans agencies from setting standards that create unnecessary obstacles to the foreign commerce of the United States. In developing U.S. standards, the Trade Act requires agencies to consider international standards. Where suitable, the Trade Act directs agencies to use those international standards as the basis of U.S. standards. Fourth, the Unfunded Mandates Reform Act of 1995 requires agencies to prepare a written assessment of the costs, benefits, and other effects of proposed or final rules. This requirement applies only to rules that include a Federal mandate on State, local, or tribal governments, likely to result in a total expenditure of $100 million or more in any one year (adjusted for inflation). In conducting these analyses, the FAA determines that this rule:

(1) Has benefits which justify its costs and is not a “significant regulatory action” as defined in the Executive Order and as defined in DOT's Regulatory Policies and Procedures;

(2) Will not have a significant impact on a substantial number of small entities;

(3) Has minimal effects on international trade; and

(4) Does not impose an unfunded mandate on State, local, or tribal governments or on the private sector.

Economic Summary

This rule delays the effective date for repair stations to establish their training programs in accordance with § 145.163. This action is necessary because applicable guidance material is not yet available to assist repair stations in developing their programs. The extended date will give repair stations sufficient time to develop their programs and will give the FAA time to evaluate and approve them.There will also be a decrease in overall paperwork and costs if this rule has the extended effective date.

Regulatory Flexibility Act

The Regulatory Flexibility Act (RFA) of 1980, 5 U.S.C. 601-612, establishes “as a principle of regulatory issuance that agencies shall endeavor, consistent with the objective of the rule and of applicable statutes, to fit regulatory and informational requirements to the scale of the business, organizations, and governmental jurisdictions subject to the regulation.” To achieve that principle, the RFA requires agencies to solicit and consider flexible regulatory proposals to explain the rationale for their actions. The RFA covers a wide-range of small entities, including small businesses, not-for-profit organizations, and small governmental jurisdictions.

Agencies must perform a review to determine whether a proposed or final rule will have a significant economic impact on a substantial number of small entities. If the agency determines that it will, the agency must prepare a regulatory flexibility analysis as described in the RFA.

However, if an agency determines that a proposed or final rule is not expected to have a significant economic impact on a substantial number of small entities, section 605(b) of the RFA provides that the head of the agency may so certify and a regulatory flexibility analysis is not required. The certification must include a statement providing the factual basis for this determination, and the reasoning should be clear.

This final rule merely delays the effective date for § 145.163. Its economic impact is minimal. Therefore, we certify that this action will not have a significant economic impact on a substantial number of small entities.

Trade Impact Assessment

The Trade Agreement Act of 1979 prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this final rule and determined that it has only a domestic impact.

Unfunded Mandates Reform Act

The Unfunded Mandates Reform Act of 1995 (the Act), is intended, among other things, to curb the practice of imposing unfunded Federal mandates on State, local, and tribal governments. Title II of the Act requires each Federal agency to prepare a written statement assessing the effects of any Federal mandate in a proposed or final agency rule that may result in a $100 million or more expenditure (adjusted annually for inflation) in any one year by State, local, and tribal governments, in the aggregate, or by the private sector; such a mandate is deemed to be a “significant regulatory action.” The FAA currently uses an inflation-adjusted value of $120.7 million in lieu of $100 million.

This final rule does not contain such a mandate. Therefore, the requirements of Title II of the Unfunded Mandates Reform Act of 1995 do not apply.

Executive Order 13132, Federalism

The FAA has analyzed this final rule under the principles and criteria of Executive Order 13132, Federalism. We determined that this action will not have a substantial direct effect on the States, or the relationship between the national Government and the States, or on the distribution of power and responsibilities among the various levels of government. Therefore, we have determined that this final rule does not have federalism implications.

Environmental Analysis

FAA Order 1050.1E identifies FAA actions that are categorically excluded from preparation of an environmental assessment or environmental impact statement under the National Environmental Policy Act in the absence of extraordinary circumstances. The FAA has determined this proposed rulemaking action qualifies for the categorical exclusion identified in paragraph 312(d) and involves no extraordinary circumstances.

Regulations That Significantly Affect Energy Supply, Distribution, or Use

The FAA has analyzed this final rule under Executive Order 13211, Actions Concerning Regulations that Significantly Affect Energy Supply, Distribution, or Use (66 FR 28355, May 18, 2001). We have determined that it is not a “significant energy action” under the executive order because it is not a “significant regulatory action” under Executive Order 12866, and it is not likely to have a significant adverse effect on the supply, distribution, or use of energy.

List of Subjects in 14 CFR Part 145

Air carriers, Air transportation, Aircraft, Aviation safety, Recordkeeping and reporting requirements, Safety.

The Amendment

For the reasons set forth above, the Federal Aviation Administration is delaying the effective date of 14 CFR 145.163 and amending part 145 as follows:

PART 145—REPAIR STATIONS

1. The authority citation for part 145 is revised to read as follows:

Authority: 49 U.S.C. 106(g), 40113, 44701-44702, 44707, 44709, 44717.

2. Revise § 145.163(a) introductory text to read as follows:

§ 145.163 Training requirements.

(a) A certificated repair station must have an employee training program approved by the FAA that consists of initial and recurrent training. For purposes of meeting the requirements of this paragraph, beginning April 6, 2006—

* * * * *

Issued in Washington, DC, on March 17, 2005.
Marion C. Blakey,
Administrator.

[FR Doc. 05-5856 Filed 3-22-05; 3:29 pm]

BILLING CODE 4910-13-P